DEPARTMENT OF AGRICULTURE

Economic Research Service

Notice of Intent To Seek Approval To Collect Information

AGENCY: Economic Research Service, USDA.

SUMMARY: In accordance with the Paperwork Reduction Act of 1995 (Pub L. 104-13) and Office of Management and Budget (OMB) regulations at 5 CFR Part 1320 (60 FR 44978, August 29, 1995), this notice announces the Economic Research Service's (ERS) intention to request approval for a new information collection from the U.S. population. The study will collect information from Food Stamp Program (FSP) participants that reside in one of six demonstration sites.

DATES: Written comments must be received by May 19, 2003 to be assured of consideration.

ADDRESSES: Requests for additional information regarding this notice should be directed to Elizabeth Dagata, Rural Economy Branch, Food and Rural Economics Division, Economic Research Service, U.S. Department of Agriculture, 1800 M St. NW., Washington, DC 20036-5831. Submit electronic comments to edagata@ers.usda.gov.

SUPPLEMENTARY INFORMATION: Title: Evaluation of Three Models Designed to Increase Participation of Eligible Elderly in the Food Stamp Program.

OMB Number: Not yet assigned.

Expiration Date: Two years from date of issuance.

Type of Request: Approval to collect information from elderly individuals who receive food stamps and who reside in one of the Elderly Nutrition Demonstration pilot sites.

Abstract: USDA's Economic Research Service (ERS) has the responsibility to provide social and economic intelligence on consumer, food marketing, and rural issues, including food security status of the poor; domestic food assistance programs; low-income assistance programs; economic food consumption determinations and trends; consumer demand for food quality, safety, and nutrition; food market competition and coordination; and food safety regulation. In carrying out this overall mission, ERS seeks approval of information gathering activities that will provide key information about the impact of the Food Stamp Program's (FSP) Elderly Nutrition Demonstration pilots.

Six states (Arizona, Connecticut, Florida, Maine, Michigan, and North Carolina) are implementing separate Elderly Nutrition Demonstration pilots, with each State's pilot based on one of three demonstration models: (1) A commodities alternative benefit model, in which elderly FSP participants can elect to receive a package of commodities each month in lieu of traditional FSP benefits; (2) a simplified eligibility model, in which the FSP eligibility rules for elderly applicants are streamlined; or (3) an application assistance model, in which demonstration staff assist elderly FSP applicants with completing the food stamp application. Two states (Connecticut and North Carolina) are implementing a commodities alternative benefit model; one state (Florida) is implementing a simplified eligibility model; and three states (Arizona, Maine and Michigan) are implementing an application assistance model. USDA is operating these pilot projects to explore which demonstration models lead to increased participation among elderly individuals in the Food Stamp Program and why.

Working with ERS, a contractor will be evaluating the six demonstration models. Participation data obtained through administrative case records will be used to estimate the impact of the demonstrations on the number of elderly participants in the Food Stamp Program. To identify reasons why elderly individuals may be more likely to participate under the demonstrations, the contractor will contact elderly Food Stamp Program participants directly.

In the two states that are implementing the commodities alternative benefit demonstration model (Connecticut and North Carolina), a sample of elderly food stamp participants will be surveyed. The survey will query respondents as to whether or not they chose to participate in the commodity alternative benefit demonstration, the reason for that choice, and, if they are receiving the commodity alternative benefit, what they like and dislike about it. A different sample of respondents will be identified every quarter, and interviews will occur between three and seven quarters. A small sub-sample of respondents will be contacted a second time to acquire more detailed information about their experience with the demonstration.

In addition to the survey conducted in the two commodities demonstration sites, focus groups will be conducted in the one state implementing the simplified eligibility demonstration model (Florida) and in the three states implementing the application assistance demonstration model (Arizona, Maine and Michigan). There will be two focus groups per state, with each focus group including 10 elderly FSP participants. These focus groups will be used to determine what aspects of each demonstration were beneficial to the clients.

Affected Public: Elderly FSP participants residing in the demonstration sites.

Estimated Number of Respondents: A combined total of 167 individuals in the two commodities alternative benefit demonstration sites will be interviewed per quarter, and interviews will be conducted for three to seven quarters. The maximum number of interviews conducted is 1,169 (= 167 respondents × 7 quarters). In the remaining four demonstration sites, a combined total of 80 individuals will participate in focus groups (10 participants per focus group × 2 focus groups × 4 states).

Number of Responses per Respondent: Of the individuals participating in the initial interview, a total of 36 individuals will respond twice (once to the initial interview and once to the follow-up interview). The remaining individuals (up to 1,133) will respond only once. The 80 individuals participating in the focus groups will respond once.

Estimated Total Responses: Maximum total number of responses: 1,285 (= 1,169 initial commodities interviews + 36 follow up interviews + 80 focus group participants).

Hours per Response: Initial commodities alternative benefit interview: 20 minutes per respondent; follow-up commodities alternative benefit interview: 20 minutes per respondent; focus group: 1 hour 15 minutes per respondent.

Total Reporting Hours: Maximum total reporting hours: 498 hours (= 1,169 initial commodities interviews * 0.33 hours + 36 follow up interviews * 0.33 hours + 80 focus group participants * 1.25 hours).

Comments: Comments are invited on (a) whether the proposed collection of information is necessary for the proper performance of the functions of the Agency, including whether the information has practical utility; (b) the accuracy of the Agency's estimate of the burden of the proposed collection of information, including the validity of the methodology and assumptions used; (c) ways to enhance the quality, utility and clarity of the information to be collected; (d) ways to minimize the burden of the collection of information on those who are to respond, including the use of appropriate automated, electronic, mechanical, or other technological collection techniques or other forms of information technology. Comments should be sent to the address stated in the preamble. All responses to this notice will be summarized and included in the request for Office of Management and Budget (OMB) approval. All comments will also become a matter of public record.

Dated: February 25, 2003.
Susan Offut,
Administrator, Economic Research Service, USDA.

[FR Doc. 03-6056 Filed 3-12-03; 8:45 am]

BILLING CODE 3410-18-P